DEPARTMENT OF TRANSPORTATION

Federal Aviation Administration

14 CFR Part 39

[Docket No. FAA-2009-1221; Directorate Identifier 2008-NM-097-AD]

RIN 2120-AA64

Airworthiness Directives; The Boeing Company Model 767 Airplanes

AGENCY: Federal Aviation Administration (FAA), DOT.

ACTION: Supplemental notice of proposed rulemaking (NPRM); reopening of comment period.

SUMMARY: We are revising an earlier proposed airworthiness directive (AD) for the products listed above. That NPRM proposed to require installing new panel assemblies in the main equipment center or on the forward cargo compartment sidewall and removing certain relays from some panels in the main equipment center. That NPRM also proposed to require revising the maintenance program to incorporate Airworthiness Limitations (AWLs) No. 28-AWL-27 and No. 28-AWL-28. That NPRM was prompted by fuel system reviews conducted by the manufacturer. For certain airplanes, this action revises that NPRM by proposing to require prior or concurrent installation of a second fuel crossfeed valve. This action also revises that NPRM by proposing an alternative location for the installation of the new panel assemblies for airplanes that have the optional water system drain plumbing and changing the interconnecting wiring between the P141 panel and the P36 and P37 panels. For airplanes with a deactivated center fuel tank, this action revises that NPRM by proposing an alternative functional test for the left and right override/jettison pumps. We are proposing this supplemental NPRM to prevent possible sources of ignition in a fuel tank caused by electrical fault or uncommanded dry operation of the main tank boost pumps and center auxiliary tank override and jettison pumps. An ignition source in the fuel tank could result in a fire or an explosion and consequent loss of the airplane. Since these actions impose an additional burden over that proposed in the NPRM, we are reopening the comment period to allow the public the chance to comment on these proposed changes.

DATES: We must receive comments on this supplemental NPRM by May 2, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Elias Natsiopoulos, Aerospace Engineer, Systems and Equipment Branch, ANM-130S, FAA, Seattle Aircraft Certification Office, 1601 Lind Avenue, SW., Renton, Washington 98057-3356; telephone (425) 917-6478; fax (425) 917-6590; e-mail elias.natsiopoulos@faa.gov.

SUPPLEMENTARY INFORMATION:

Comments Invited

We invite you to send any written relevant data, views, or arguments about this proposed AD. Send your comments to an address listed under the ADDRESSES section. Include “Docket No. FAA-2009-1221; Directorate Identifier 2008-NM-097-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an airworthiness directive (AD) that would apply to The Boeing Company Model 767-200, -300, -300F, and -400ER series airplanes. That NPRM published in the Federal Register on December 29, 2009 (74 FR 68743). That NPRM proposed to require installing new panel assemblies in the main equipment center or on the forward cargo compartment sidewall and removing certain relays from some panels in the main equipment center. That NPRM also proposed to require revising the maintenance program to incorporate Airworthiness Limitations (AWLs) No. 28-AWL-27 and No. 28-AWL-28.

Actions Since Original NPRM Was Issued

Since we issued the original NPRM, the manufacturer has notified us that certain airplanes affected by the original NPRM have the optional water system drain plumbing. This optional system was not addressed in Boeing Alert Service Bulletin 767-28A0085, dated January 10, 2008; or Boeing Service Bulletin 767-28A0085, Revision 1, dated June 25, 2009; which we referred to as appropriate sources of service information for accomplishing the proposed actions. Several operators attempted to accomplish the actions and encountered equipment installation interference. Specifically, the installation of the new P141 panel at the location specified in either revision of the service bulletin interferes with the optional water system drain plumbing.

We have revised the supplemental NPRM to refer to Boeing Service Bulletin 767-28A0085, Revision 2, dated August 19, 2010.

Boeing Service Bulletin 767-28A0085, Revision 2, dated August 19, 2010, specifies the following changes:

• For airplanes equipped with the optional water system drain plumbing: An alternate location is specified for the installation of the P141 panel. The interconnecting wiring between the P141 panel and the P36 and P37 panels is also changed due to the relocation of the P141 panel.

• For airplanes with a deactivated center fuel tank (alternately referred to as the center auxiliary fuel tank): An alternative functional test is added for the left and right override/jettison pumps.

• For airplanes having line positions 1 through 430: Installation of a second fuel crossfeed valve is added as a prior or concurrent action. This installation is specified to be done in accordance with Boeing Service Bulletin 767-28-0034, Revision 3, dated March 14, 1996.

• Additional error corrections and clarifications, including clarifications of wiring configurations and routing, and increased work-hours for airplanes with the optional water system drain plumbing.

Explanations of Additional Changes to the Original NPRM

We have added a new paragraph (d) to this supplemental NPRM to provide the Air Transport Association (ATA) of America subject code 28, Fuel. This code is added to make this supplemental NPRM parallel with other new AD actions. We have reidentified subsequent paragraphs accordingly.

We have included the cost of the prior/concurrent installation of the second crossfeed valve.

We have also removed Table 1 and fully cited the service information that was specified in the table. We reidentified the subsequent table.

As noted above, we have added certain paragraphs to the supplemental NPRM and, since we issued the original NPRM, the format has been revised, and certain other paragraphs have been rearranged. As a result, the corresponding paragraph identifiers have changed from the original NPRM in this supplemental NPRM, as listed in the table titled “Revised Paragraph Identifiers.” In the disposition of comments we will refer to the relevant paragraph of the original NPRM or the supplemental NPRM, depending on context.

Revised Paragraph Identifiers
Paragraph in the original NPRM | Corresponding or new paragraph in the supplemental NPRM
none | paragraph (d)—new ATA code.
paragraph (d) | paragraph (e).
paragraph (e) | paragraph (f).
paragraph (f) | paragraph (g).
none | paragraph (h)—exception.
paragraph (g) | paragraph (i).
none | paragraph (j)—new concurrent requirement.
paragraph (h) | paragraph (k).
paragraph (i) | paragraph (l).
paragraph (j) | paragraph (m).
none | paragraph (n)—new paragraph for credit for actions accomplished in accordance with previous service information.
paragraph (k) | paragraph (o).

Comments

We gave the public the opportunity to comment on the original NPRM. The following presents the comments received on the NPRM and the FAA's response to each comment.

Request To Add Service Information to Table 1 of the Original NPRM

Japan Airlines (JAL) requested that we revise Table 1 in paragraph (g) of the original NPRM to include the original versions of two service bulletins as sources of service information. JAL pointed out that these two service bulletins are referred to in AD 2009-16-06, amendment 39-15989, which is the subject of paragraph (g) of the original NPRM.

We agree with JAL's request. We have included a new Table 2 in this supplemental NPRM to include Boeing Alert Service Bulletin 767-28A0083, dated May 3, 2006; and Boeing Alert Service Bulletin 767-28A0084, dated May 3, 2006. Both of these service bulletins are acceptable for compliance with the requirements of AD 2009-16-06. Although Boeing Service Bulletin 767-28A0083, dated May 3, 2006, is identified in Paragraph 1.B., “Concurrent Requirements,” of Boeing Service Bulletin 767-28A0085, Revision 2, dated August 19, 2010, Boeing Alert Service Bulletin 767-28A0084, dated May 3, 2006, is not listed in Paragraph 1.B. of Boeing Service Bulletin 767-28A0085, Revision 2, dated August 19, 2010. We have coordinated this difference with Boeing.

Requests To Refer to R1 of AD 2008-11-01

JAL, Continental Airlines (CAL), United Airlines (UAL), and UPS pointed out that although paragraph (i) of the original NPRM proposed the option of incorporating paragraph (g)(2) of AD 2008-11-01, amendment 39-15523 (73 FR 29414, May 21, 2008), that AD has since been revised to AD 2008-11-01 R1, amendment 39-16145 (74 FR 68515, December 28, 2009).

We agree with the requests to refer to AD 2008-11-01 R1, amendment 39-16145. We issued the revision to AD 2008-11-01 to clarify the AD's intended effect on spares and on-airplane fuel tank system components, regarding the use of maintenance manuals and instructions for continued airworthiness. The actions required by AD 2008-11-01 R1 are consistent with paragraph (j) of the original NPRM, which states that “after accomplishing the actions specified in paragraph (i) of this AD, no alternative inspections or inspection intervals may be used.” We have changed paragraph (l) of this supplemental NPRM to refer to AD 2008-11-01, amendment 39-15523, and AD 2008-11-01 R1, amendment 39-16145.

Requests for Clarification of Date of Maintenance Planning Data (MPD) Document

Several commenters requested clarification of the intent of the “Revision March 2009” date of Boeing 767 Maintenance Planning Data (MPD) Document, Section 9, D622T001-9, Revision March 2009, referred to in the original NPRM.

• JAL stated that the revision should be Revision April 2009 or Revision August 2009 because it does not appear that Revision March 2009 was issued.

• CAL believed that the date should be Revision May 2009.

• UAL asked if the intent of the proposed rule is to override the requirements of AD 2008-11-01 R1 in that only Revision May 2009 may be used for compliance. UAL stated that it believed that operators should be allowed to use either Revision April 2008 or Revision May 2009, and that paragraph (h) of the original NPRM should be revised accordingly.

• UPS pointed out that as an optional action in AD 2008-11-01 R1, AWLs No. 28-AWL-27 and No. 28-AWL-28 may be incorporated into the maintenance program as identified in Revision April 2008 or Revision May 2009 of the MPD. UPS was unclear as to whether the original NPRM would supersede the previous option by requiring that only Revision March 2009 be used. UPS further stated that AD 2008-11-01 R1 notes that the changes in Revision May 2009 are for clarification only and that either Revision April 2008 or Revision May 2009 are acceptable for use.

We agree that the date of the MPD document needs to be clarified. AWLs No. 28-AWL-27 and No. 28-AWL-28 were added to Boeing 767 Maintenance Planning Data (MPD) Document, Section 9, D622T001-9, in Revision October 2007. None of the revisions of this MPD document since that time have changed the text of AWLs No. 28-AWL-27 and No. 28-AWL-28. Therefore, either of the revisions mentioned in AD 2008-11-01 R1, Revision April 2008 or Revision May 2009, may be used to update the maintenance program to incorporate AWLs No. 28-AWL-27 and No. 28-AWL-28. We have revised paragraph (k) of this supplemental NPRM to specify that Revision April 2008, Revision March 2009, or Revision May 2009, may be used.

Request To Extend Compliance Time

CAL had no technical objection to the original NPRM, but pointed out that although the compliance time for accomplishing the actions proposed in the original NPRM is 60 months, the concurrent requirements from AD 2009-16-06, which is specified as terminating action for paragraph (g) of the original NPRM, have a compliance time of 36 months. CAL stated that doing the actions in AD 2009-16-06 requires extensive airplane modifications and material allocations that can only be accomplished during a heavy check or special maintenance hold. Therefore, CAL requested that we consider a minor extension to the compliance time in AD 2009-16-06.

We disagree with approving an extension to the compliance time for AD 2009-16-06 through this supplemental NPRM. However, we will consider requests for an adjustment to the compliance time under the provisions of paragraph (o) of AD 2009-16-06 if data are submitted to substantiate that such an adjustment would provide an acceptable level of safety. We have not changed the supplemental NPRM in this regard.

Request To Remove Paragraph (g) of the Original NPRM

Boeing requested that we consider removing paragraph (g) from the original NPRM. Paragraph (g) of the original NPRM is the concurrent installation of an automatic shutoff system for the auxiliary fuel tank pump. Boeing explained that the safety conditions and fixes associated with references to Boeing Service Bulletin 767-28A0083, Revision 2, dated February 12, 2009; or Boeing Service Bulletin 767-28A0084, Revision 1, dated April 26, 2007; are already mandated by AD 2009-16-06, and by the instructions in paragraph (f) of the original NPRM with implementation of Boeing Service Bulletin 767-28A0085, Revision 2, dated August 19, 2010. Boeing stated that future changes to paragraph (g) of the original NPRM would require alternative methods of compliance (AMOCs) and create added paperwork for Boeing, the airlines, and the FAA.

We disagree with the request to remove paragraph (g) of the original NPRM. Accomplishing the actions proposed in the original NPRM for the center fuel tank pump system depend on the configuration of the center fuel tank pump system of the affected airplanes as modified by the accomplishment of the actions specified in the service information identified in paragraph (g) of the original NPRM. Therefore, airplanes in the effectivity of the service bulletins identified in Table 1 of this supplemental NPRM must have the actions done prior to or concurrently with the actions proposed in paragraph (g) of this supplemental NPRM. If we remove paragraph (i) of this supplemental NPRM, there is no assurance that the center fuel tank pump system for the affected airplanes would be in the correct configuration during the accomplishment of the actions proposed in paragraph (g) of this supplemental NPRM.

Should the service information specified in paragraph (i) of this supplemental NPRM change in a way that affects the ground fault interrupt (GFI) relays and uncommanded-on protective feature, under the provisions of paragraph (o) of this supplemental NPRM, we will consider requests for approval of an AMOC if sufficient data are submitted to substantiate that the design change would provide an acceptable level of safety. We have not changed this supplemental NPRM in this regard.

Request To Remove Paragraphs (h), (i), and (j) of the Original NPRM

All Nippon Airways (ANA) requested that we remove the proposed requirements of paragraphs (h), (i), and (j) of the original NPRM, which specify incorporating AWLs No. 28-AWL-27 and No. 28-AWL-28 into the maintenance program. ANA stated that these AWLs have already been introduced in the airline maintenance program as required by AD 2008-11-01 R1.

We disagree with the request to remove paragraphs (k), (l), and (m) of the supplemental NPRM (paragraphs (h), (i), and (j) of the original NPRM). Incorporating AWLs No. 28-AWL-27 and No. 28-AWL-28 into the maintenance program in accordance with AD 2008-11-01 R1 is an option, not a requirement. Operators may or may not decide to exercise this option. The actions proposed in paragraph (k) of this supplemental NPRM remain applicable. However, paragraph (l) of this supplemental NPRM gives credit to operators of the affected airplanes that chose the optional action; doing the optional action terminates the actions proposed in paragraph (k) of this supplemental NPRM. We have not changed this supplemental NPRM in this regard.

Request To Define Unsafe Condition and Corrective Actions Clearly

TDG Aerospace (TDG) requested that we revise the text of the original NPRM to reflect the construction of a typical NPRM. TDG stated that in that construction, the FAA typically discusses the unsafe condition, describes the desired corrective action, and then refers to the manufacturer's service information for approved instructions for doing the corrective action. TDG pointed out that the intent of the original NPRM is effectively masked by focusing on the “Installation of Panel Assemblies and Removal of Relays.” TDG said this suggests that the FAA intends to mandate “Installation of Panel Assemblies and Removal of Relays” as a desired corrective action for the unsafe condition identified in paragraph (d) of the original NPRM. TDG argued that the corrective action is the installation of an uncommanded-on protection system and installation of GFI relays. TDG stated that installing new panels and removing relays is simply one method of achieving the corrective action. TDG further stated that the language of the rule is important with respect to the application for AMOCs and said it would be more straightforward for AMOC applicants to show an equivalent level of safety to installing uncommanded-on protection and GFI relays as opposed to showing an equivalent level of safety to installation of panel assemblies and removal of relays.

We partially agree with TDG's request for clarification. We disagree that the order of the supplemental NPRM should be revised. The unsafe condition and the intent of the proposed rule are described in the Summary and Discussion sections and paragraph (d) of the original NPRM. The heading “Installation of Panel Assemblies and Removal of Relays” is a descriptive title only and not the enforceable language of paragraph (f) of the original NPRM. However, we agree that some clarification of the P140 and P141 assemblies is necessary. These panel assemblies are preassembled modules that contain the GFI relays and the center fuel tank override/jettison pumps un-commanded ON protective features. We have included in the Summary and Discussion sections of the supplemental NPRM the words “* * * main equipment center or on the forward cargo compartment sidewall and removing certain relays from some panels in the main equipment center.” We have also revised the wording in paragraph (g) of this supplemental NPRM to reflect a similar wording.

Request for Clarification of Prior or Concurrent Actions for Airplanes With Deactivated Center Fuel Tank

TDG pointed out that paragraph (j) of AD 2009-16-06 provides for optional terminating action for paragraphs (f), (h), and (i) of that AD via deactivation of the center fuel tank. TDG expressed concern that operators that deactivate the center tank will not be able to do the modifications proposed in the original NPRM without prior or concurrent installation of the automatic shutoff system in accordance with the actions in proposed paragraph (g) of the original NPRM. TDG stated that requiring operators to install an automatic shutoff system on an airplane with a deactivated center tank effectively eliminates the center tank deactivation as an optional terminating action for AD 2009-16-06.

We infer from TDG's comments that it sees a conflict between the original NPRM and AD 2009-16-06, amendment 39-15989, that would invalidate certain provisions of that AD. We disagree. We note that paragraph (g) of the original NPRM proposed to require changes to all affected airplanes, whether the airplanes have an active center fuel tank (with changes made per paragraphs (f), (h), and (i) of AD 2009-16-06), or a deactivated center fuel tank (as allowed by paragraph (j) of AD 2009-16-06). Changes made per Boeing Service Bulletin 767-28A0085, Revision 2, dated August 19, 2010, can be made on airplanes in either configuration, and this service bulletin includes instructions for testing of an airplane with a deactivated center fuel tank (reference Step 3.B.29.e. of the Accomplishment Instructions of this service bulletin). If a deactivated center fuel tank is later reactivated, the requirements in paragraph (i) of AD 2009-16-06 must be done. We have not changed the supplemental NPRM in this regard.

FAA's Determination

We are proposing this supplemental NPRM because we evaluated all the relevant information and determined the unsafe condition described previously is likely to exist or develop in other products of the same type design. Certain changes described above expand the scope of the original NPRM. As a result, we have determined that it is necessary to reopen the comment period to provide additional opportunity for the public to comment on this supplemental NPRM.

Proposed Requirements of the Supplemental NPRM

This supplemental NPRM would require accomplishing the actions specified in the service information described previously.

Costs of Compliance

We estimate that this proposed AD will affect 416 airplanes of U.S. registry.

We estimate the following costs to comply with this proposed AD:

Estimated Costs
Action | Labor cost | Parts cost | Cost per product | Cost on U.S. operators
Installation of GFI equipment and wiring | Between 216 and 279 work-hours × $85 per hour = between $18,360 and $23,715 | Between $52,285 and $53,123 | Between $70,645 and $76,838 | Up to $31,964,608.
Installation of second crossfeed valve (prior/concurrent action) | Between 274 and 302 work-hours × $85 per hour = between $23,290 and $25,670 | Between $30,838 and $66,903 | Between $54,128 and $92,573 | Between $22,517,248 and $38,510,368.
Installing automatic shutoff system (prior/concurrent action; required by AD 2009-16-06) | Between 3 and 29 work-hours × $85 per hour = between $255 and $2,465 | Between $421 and $9,374 | Between $676 and $11,835 | Between $281,216 and $4,925,024.
Revising the maintenance program | 1 | None | $85 | $35,360.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2009-1221; Directorate Identifier 2008-NM-097-AD.

Comments Due Date

(a) We must receive comments by May 2, 2011.

Affected ADs

(b) None.

Applicability

(c) This AD applies to The Boeing Company Model 767-200, -300, -300F, and -400ER series airplanes, certificated in any category; as identified in Boeing Service Bulletin 767-28A0085, Revision 2, dated August 19, 2010.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (o) of this AD. The request should include a description of changes to the required inspections that will ensure the continued operational safety of the airplane.

Subject

(d) Joint Aircraft System Component (JASC)/Air Transport Association (ATA) of America Code 28, Fuel.

Unsafe Condition

(e) This AD results from fuel system reviews conducted by the manufacturer. We are issuing this AD to prevent possible sources of ignition in a fuel tank caused by electrical fault or uncommanded dry operation of the main tank boost pumps and center auxiliary tank override and jettison pumps. An ignition source in the fuel tank could result in a fire or an explosion, and consequent loss of the airplane.

Compliance

(f) Comply with this AD within the compliance times specified, unless already done.

Installation of Panel Assemblies and Removal of Relays

(g) Within 60 months after the effective date of this AD, install ground fault interrupt relays (P140 and P141 panel assemblies) and all applicable parts and components in the main equipment center or in the forward cargo compartment sidewall, as applicable, and remove the fuel boost pump control relays from the P33, P36, and P37 panels, in accordance with the Accomplishment Instructions of Boeing Service Bulletin 767-28A0085, Revision 2, dated August 19, 2010, except as required by paragraph (h) of this AD.

Exception to Service Bulletin

(h) Although paragraph 3.B.29.e. of the Accomplishment Instructions of Boeing Service Bulletin 767-28A0085, Revision 2, dated August 19, 2010, specifies an alternative functional test of the left and right center override pumps as an option, this AD requires that test for airplanes on which the center tank is deactivated.

Prior/Concurrent Installations

(i) For airplanes identified in paragraph 1.A.1. of Boeing Service Bulletin 767-28A0083, Revision 2, dated February 12, 2009; or Boeing Service Bulletin 767-28A0084, Revision 1, dated April 26, 2007: Prior or concurrently with accomplishing the action required by paragraph (g) of this AD, install an automatic shutoff system for the auxiliary fuel tank pump, in accordance with the Accomplishment Instructions of Boeing Service Bulletin 767-28A0083, Revision 2, dated February 12, 2009; or Boeing Service Bulletin 767-28A0084, Revision 1, dated April 26, 2007; as applicable. Accomplishing the requirements of AD 2009-16-06, amendment 39-15989, terminates the requirements of this paragraph.

(j) For airplanes having line positions 1 through 430: Prior or concurrently with accomplishing the action required by paragraph (g) of this AD, install a second fuel crossfeed valve, in accordance with the Accomplishment Instructions of Boeing Service Bulletin 767-28-0034, Revision 3, dated March 14, 1996.

Maintenance Program Revision

(k) Concurrently with accomplishing the actions required by paragraph (g) of this AD, or within 30 days after the effective date of this AD, whichever occurs later: Revise the maintenance program by incorporating Airworthiness Limitations (AWLs) No. 28-AWL-27 and No. 28-AWL-28 of Section 9 (“AIRWORTHINESS LIMITATIONS (AWLs) AND CERTIFICATION MAINTENANCE REQUIREMENTS (CMRs)”) of the Boeing 767 Maintenance Planning Data (MPD) Document, D622T001-9, Revision April 2008; Revision March 2009; or Revision May 2009. The initial compliance time for the actions specified in AWLs No. 28-AWL-27 and No. 28-AWL-28 is within 1 year after accomplishing the installation required by paragraph (g) of this AD, or within 1 year after the effective date of this AD, whichever occurs later.

Terminating Action for AWLs Revision

(l) Incorporating AWLs No. 28-AWL-27 and No. 28-AWL-28 into the maintenance program in accordance with paragraph (g)(2) of AD 2008-11-01, amendment 39-15523, or paragraph (g)(2) of 2008-11-01 R1, amendment 39-16145, terminates the action required by paragraph (k) of this AD.

No Alternative Inspections or Inspection Intervals

(m) After accomplishing the actions specified in paragraph (k) of this AD, no alterative inspections or inspection intervals may be used unless the inspections or intervals are approved as an alternative method of compliance (AMOC) in accordance with the procedures specified in paragraph (o) of this AD.

Credit for Actions Accomplished in Accordance With Previous Service Information

(n) Actions done before the effective date of this AD in accordance with the service information identified in Table 1 of this AD are acceptable for compliance with the corresponding requirements of this AD.

Table 1—Credit Service Information
Boeing Service Bulletin | Revision | Date
Boeing Alert Service Bulletin 767-28A0085 | Original | January 10, 2008.
Boeing Service Bulletin 767-28A0085 | 1 | June 25, 2009.
Boeing Alert Service Bulletin 767-28A0083 | Original | May 3, 2006.
Boeing Service Bulletin 767-28A0083 | 1 | April 26, 2007.
Boeing Alert Service Bulletin 767-28A0084 | Original | May 3, 2006.
Boeing Service Bulletin 767-28-0034 | 2 | May 4, 1995.

Alternative Methods of Compliance (AMOCs)

(o)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(p) For more information about this AD, contact Elias Natsiopoulos, Aerospace Engineer, Systems and Equipment Branch, ANM-130S, FAA, Seattle Aircraft Certification Office, 1601 Lind Avenue, SW., Renton, Washington 98057-3356; telephone (425) 917-6478; fax (425) 917-6590; e-mail elias.natsiopoulos@faa.gov.

(q) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on March 24, 2011.
Ali Bahrami,
Manager, Transport Airplane Directorate, Aircraft Certification Service.

[FR Doc. 2011-8066 Filed 4-4-11; 8:45 am]

BILLING CODE 4910-13-P